DEPARTMENT OF AGRICULTURE

Animal and Plant Health Inspection Service

[Docket No. APHIS-2008-0106]

A Business Plan To Advance Animal Disease Traceability; Final Version

AGENCY: Animal and Plant Health Inspection Service, USDA.

ACTION: Notice of availability.

SUMMARY: We are advising the public that we are making available a final version of our Business Plan to Advance Animal Disease Traceability. Based on comments that we received on our draft Business Plan, which we made available to the public for review and comment through a previous notice, we have amended the plan in order to provide greater clarity regarding the points of integration between the National Animal Identification System (NAIS) and existing State and Federal animal health programs and brand programs. We have also added more specificity regarding traceability strategies for several animal industries, an explanation of how the NAIS can help producers meet country of origin labeling requirements, and a detailed discussion of future plans regarding radio frequency identification of animals destined for import or export. We have also updated the plan to reflect the current budget for the NAIS, to adjust the benchmarks and target dates for implementation of animal traceability, and to make other, nonsubstantive changes. The final Business Plan retains the seven core strategies for harmonizing the NAIS with existing programs and methods that we outlined in our draft plan.

ADDRESSES: The Business Plan is available on the Internet at http://animalid.aphis.usda.gov/nais/. The document may also be viewed in our reading room. The reading room is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Mr. Neil Hammerschmidt, Coordinator, National Animal Identification System, National Center for Animal Health Programs, VS, APHIS, 4700 River Road Unit 200, Riverdale, MD 20737-1231; (301) 734-5571.

SUPPLEMENTARY INFORMATION:

Background

As part of its ongoing efforts to safeguard animal health, the U.S. Department of Agriculture (USDA) initiated implementation of a National Animal Identification System (NAIS) in 2004. The NAIS is a cooperative State-Federal-industry program administered by USDA's Animal and Plant Health Inspection Service (APHIS). The purpose of the NAIS is to provide a streamlined information system that will help producers and animal health officials respond quickly and effectively to animal disease events in the United States. The ultimate long-term goal of the NAIS is to provide State and Federal officials with the capability to identify all animals and premises that have had direct contact with a disease of concern within 48 hours after its discovery.

On December 19, 2007, we published in the Federal Register a notice ¹ (Docket No. APHIS-2007-0148, 72 FR 71871-71873) in which we made available for review and comment a draft Business Plan to Advance Animal Disease Traceability. The Business Plan recommended seven strategies and options to enable existing State and Federal regulated and voluntary animal health programs, industry-administered management and marketing programs, and various identification methods to work in harmony with the NAIS, with the goal of creating a comprehensive animal-disease traceability infrastructure in order to facilitate 48-hour traceback.

¹ To view the notice, go to http://www.regulations.gov/fdmspublic/component/main?main=DocketDetail&d=APHIS-2007-0148.

We solicited comments on the draft Business Plan through the NAIS Web site (http://animalid.aphis.usda.gov/nais/) for 118 days, through April 15, 2008. We received 183 comments by that date, from national, regional, and State industry groups, State departments of agriculture, national veterinary organizations, the operator of a horse racetrack, manufacturers and distributors of animal identification devices, veterinarians, extension agents, university professors, producers, and private citizens. In response to the comments we received, we have modified the draft plan in several places:

• We now specify throughout the Business Plan that the long-term focus of the NAIS is full traceability within the cattle industries (both beef and dairy), based on the consistent recording of all animal movements. The draft Business Plan focused on implementing a “book-end” approach, based on knowledge of the premises of origin and the most recent premises for the animal, with fewer references to the recording of animal movements.

• We now specify throughout the Business Plan that, while all producers can benefit from choosing to participate in national animal health safeguarding efforts, NAIS standards apply to the administration of disease programs.

• We now separate out implementation strategies for the sheep industry from those for the goat industry to reflect that they are separate and distinct industries and species.

• We have added an explanation of how NAIS participation provides producers with options for meeting forthcoming country of origin labeling requirements.

• We now explain future plans for requiring radio frequency identification (commonly referred to as RFID) of animals destined for import and export when such animals are subject to individual identification.

• We have added a formal acknowledgement of the importance of official brands, and a clarification that the NAIS is not in conflict with, or a replacement for, existing brand programs.

• We have updated the budget for the NAIS to reflect the allocation for fiscal year 2008, have adjusted the benchmarks and timelines for implementation of animal traceability by species and for registration of critical location points, and have made other, nonsubstantive changes throughout the plan.

It is important to note, however, that the final version of the Business Plan retains the seven core strategies for harmonizing the NAIS with existing programs and methods that we outlined in our draft Business Plan.

We are making the final version of the Business Plan available on the NAIS Web site. Paper copies may be obtained by writing to the following address: NAIS Program Staff, VS, APHIS, 4700 River Road Unit 200, Riverdale, MD 20737.

Done in Washington, DC, this 17th day of September 2008.
Kevin Shea,
Acting Administrator, Animal and Plant Health Inspection Service.

[FR Doc. E8-22192 Filed 9-22-08; 8:45 am]

BILLING CODE 3410-34-P